NATIONAL AERONAUTICS AND SPACE ADMINISTRATION

[Notice (06-011)]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: March 2, 2006.

FOR FURTHER INFORMATION CONTACT: James J. McGroary, Patent Counsel, Marshall Space Flight Center, Mail Code LS01, Huntsville, AL 35812; telephone (256) 544-6580; fax (256) 544-0258.

NASA Case No. MFS-31738-1: Multiple Tool For Friction Stir Welding And Friction Plug Welding;

NASA Case No. MFS-32208-1: Nonvolatile Analog Memory;

NASA Case No. MFS-32254-1: Method Of Fabricating A Shaped Structure In A Temperate Environment And Material Therefor;

NASA Case No. MFS-32125-1: Method And Apparatus For Predicting Unsteady Pressure And Flow Rate Distribution In A Fluid Network.

Dated: February 24, 2006.
Keith T. Sefton,
Deputy General Counsel, Administration and Management.

[FR Doc. E6-2992 Filed 3-1-06; 8:45 am]

BILLING CODE 7510-13-P